SECURITIES AND EXCHANGE COMMISSION

[Release No. 34-58153; File No. SR-CBOE-2008-67]

Self-Regulatory Organizations; Chicago Board Options Exchange, Incorporated; Notice of Filing and Immediate Effectiveness of Proposed Rule Change To Delete References to Hybrid 2.0 Platform and Hybrid 2.0 Option Classes

July 14, 2008.

Pursuant to Section 19(b)(1) of the Securities Exchange Act of 1934 (the “Act”) ¹ and Rule 19b-4 thereunder,² notice is hereby given that on July 9, 2008, the Chicago Board Options Exchange, Incorporated (the “Exchange” or “CBOE”) filed with the Securities and Exchange Commission (the “Commission”) the proposed rule change as described in Items I and II below, which Items have been prepared by the Exchange. The Exchange filed the proposal as a “non-controversial” proposed rule change pursuant to Section 19(b)(3)(A)(iii) of the Act ³ and Rule 19b-4(f)(6) thereunder.⁴ The Commission is publishing this notice to solicit comments on the proposed rule change from interested persons.

¹ 15 U.S.C. 78s(b)(1).

² 17 CFR 240.19b-4.

³ 15 U.S.C. 78s(b)(3)(A)(iii).

⁴ 17 CFR 240.19b-4(f)(6).

I. Self-Regulatory Organization's Statement of the Terms of Substance of the Proposed Rule Change

The Exchange proposes to amend its rules to delete references to Hybrid 2.0 option classes and the Hybrid 2.0 Platform. The text of the proposed rule change is available at the Exchange, the Commission's Public Reference Room, and http://www.cboe.org/Legal.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and Statutory Basis for, the Proposed Rule Change

1. Purpose

CBOE proposes to amend its rules to delete references to Hybrid 2.0 option classes and the Hybrid 2.0 Platform. Initially, when CBOE implemented its Hybrid Trading System in 2003, it permitted Market-Makers to stream electronic quotes in their appointed classes provided they were physically present at the trading station. CBOE subsequently implemented an enhanced version of Hybrid called the Hybrid 2.0 Platform which allowed remote quoting in option classes, i.e., Hybrid 2.0 option classes. (See Rule 1.1(aaa).) Over time, CBOE migrated nearly all of its option classes to the Hybrid 2.0 Platform and permitted Market-Makers and formerly Remote Market-Makers ⁵ to quote remotely.⁶

⁵ CBOE recently deleted reference to Remote Market-Makers in its rules. All Remote Market-Makers are now called Market-Makers. See Securities Exchange Act Release No. 57615 (April 3, 2008), 73 FR 19537 (April 10, 2008) (SR-CBOE-2007-120).

⁶ Presently, only three option classes are not traded on the Hybrid 2.0 Platform—MVR, OEX, and SPX. These three option classes are traded on the Hybrid 3.0 Platform, which is an electronic trading platform on the Hybrid Trading System that allows a single quoter to submit an electronic quote which represents the aggregate Market-Maker quoting interest in a series for the trading crowd. (See Rule 1.1(aaa).) CBOE is not deleting reference to the Hybrid 3.0 Platform in this rule filing.

In light of these changes, CBOE no longer believes it is necessary to distinguish in its rules between Hybrid option classes and Hybrid 2.0 option classes. Accordingly, CBOE proposes to delete the references in its rules to the Hybrid 2.0 Platform and Hybrid 2.0 option classes. Going forward, all option classes, except for the three traded on the Hybrid 3.0 Platform, would be referred to as Hybrid classes and traded on the Hybrid Trading System. CBOE also proposes to delete reference to “non-Hybrid” classes, since there are not any of these classes. Finally, CBOE proposes to make other technical changes to its rules necessitated by the deletion of Hybrid 2.0 option classes and the Hybrid 2.0 Platform, such as deleting duplicative material.

CBOE believes that the foregoing changes to the rules are simply administrative in nature and are not substantive.

2. Statutory Basis

The Exchange believes the proposed rule change is consistent with the Act and the rules and regulations under the Act applicable to a national securities exchange and, in particular, the requirements of Section 6(b) of the Act. Specifically, the Exchange believes the proposed rule change is consistent with the Section 6(b)(5) Act ⁷ requirements that the rules of an exchange be designed to promote just and equitable principles of trade, to prevent fraudulent and manipulative acts and, in general, to protect investors and the public interest. Deleting the references to Hybrid 2.0 option classes and the Hybrid 2.0 Platform also will eliminate any confusion regarding the trading platforms on which certain option classes trade.

⁷ 15 U.S.C. 78f(b)(5).

B. Self-Regulatory Organization's Statement on Burden on Competition

CBOE does not believe that the proposed rule change will impose any burden on competition not necessary or appropriate in furtherance of the purposes of the Act.

C. Self-Regulatory Organization's Statement on Comments on the Proposed Rule Change Received From Members, Participants, or Others

The Exchange neither solicited nor received comments on the proposal.

III. Date of Effectiveness of the Proposed Rule Change and Timing for Commission Action

Because the proposed rule change does not: (i) Significantly affect the protection of investors or the public interest; (ii) impose any significant burden on competition; and (iii) become operative for 30 days after the date of filing, or such shorter time as the Commission may designate if consistent with the protection of investors and the public interest, the proposed rule change has become effective pursuant to Section 19(b)(3)(A) of the Act ⁸ and subparagraph (f)(6) of Rule 19b-4 thereunder.⁹ As required under Rule 19b-4(f)(6)(iii),¹⁰ CBOE provided the Commission with written notice of its intent to file the proposed rule change, along with a brief description and text of the proposed rule change, at least 5 days prior to the filing of the proposed rule change.

⁸ 15 U.S.C. 78s(b)(3)(A).

⁹ 17 CFR 240.19b-4(f)(6).

¹⁰ 17 CFR 240.19b-4(f)(6)(iii).

A proposed rule change filed under Rule 19b-4(f)(6) normally may not become operative prior to the 30th day after the date of filing.¹¹ However, Rule 19b-4(f)(6)(iii) ¹² permits the Commission to designate a shorter time if such action is consistent with the protection of investors and the public interest. CBOE requested that the Commission waive the 30-day operative delay and make the proposed rule change operative upon filing because deleting the references to Hybrid 2.0 option classes and the Hybrid 2.0 Platform is administrative in nature and does not substantively change CBOE's rules. Additionally, by making these changes, CBOE believes it will eliminate confusion as to the whether an option class is traded on the Hybrid Trading System or Hybrid 2.0 Platform. For these reasons, the Commission believes that waiving the 30-day operative delay is consistent with the protection of investors and the public interest. Accordingly, the Commission designates the proposed rule change operative upon filing with the Commission.¹³

¹¹ See id.

¹² Id.

¹³ For purposes only of waiving the 30-day operative delay, the Commission has considered the proposed rule's impact on efficiency, competition, and capital formation. See 15 U.S.C. 78c(f).

At any time within 60 days of the filing of the proposed rule change, the Commission may summarily abrogate the rule change if it appears to the Commission that such action is necessary or appropriate in the public interest, for the protection of investors, or otherwise in furtherance of the purposes of the Act.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-CBOE-2008-67 on the subject line.

Paper Comments

• Send paper comments in triplicate to Secretary, Securities and Exchange Commission, 100 F Street, NE., Washington, DC 20549-1090.

All submissions should refer to File Number SR-CBOE-2008-67. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room, 100 F Street, NE., Washington, DC 20549, on official business days between the hours of 10 a.m. and 3 p.m. Copies of such filing also will be available for inspection and copying at the principal office of the Exchange. All comments received will be posted without change; the Commission does not edit personal identifying information from submissions. You should submit only information that you wish to make available publicly. All submissions should refer to File Number SR-CBOE-2008-67 and should be submitted on or before August 8, 2008.

For the Commission, by the Division of Trading and Markets, pursuant to delegated authority.¹⁴
¹⁴ 17 CFR 200.30-3(a)(12).
Florence E. Harmon,
Acting Secretary.

[FR Doc. E8-16460 Filed 7-17-08; 8:45 am]

BILLING CODE 8010-01-P